DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 2 entities and 3 individuals whose property and interests in property have been blocked pursuant to the Foreign Narcotics Kingpin Designation Act (“Kingpin Act”) (21 U.S.C. 1901-1908, 8 U.S.C. 1182).

DATES: The designation by the Director of OFAC of the 2 entities and 3 individuals identified in this notice pursuant to section 805(b) of the Kingpin Act is effective on October 27, 2011.

FOR FURTHER INFORMATION CONTACT: Assistant Director, Compliance Outreach & Implementation, Office of Foreign Assets Control, Department of the Treasury, Washington, DC 20220, tel.: (202) 622-2490.

SUPPLEMENTARY INFORMATION:

Electronic and Facsimile Availability

This document and additional information concerning OFAC are available on OFAC's Web site (http://www.treas.gov/ofac) or via facsimile through a 24-hour fax-on-demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On October 27, 2011, the Director of OFAC designated 2 entities and 3 individuals whose property and interests in property are blocked pursuant to section 805(b) of the Foreign Narcotics Kingpin Designation Act.

The list of designees is as follows:

Entities

1. AUTOS MINI, Avenida Delante, No. 1806, Colonia Costa Bella, Ensenada, Baja California, Mexico; (ENTITY) [SDNTK]

2. AUTODROMO CULIACAN RACE PARK, Blvd. Universitarios No. 196 Ote., Piso 4, Colonia Tierra Blanca, Culiacan, Sinaloa, Mexico; Carretera Libre, Culiacan-Mazatlan KM 8, Culiacan, Sinaloa, Mexico; Constitucion No. 1006 Pte., Esquina con Victoria, Colonia Jorge Almada, Culiacan, Sinaloa, Mexico; (ENTITY) [SDNTK]

Individuals

1. AVENDANO OJEDA, Martin Guadencio (a.k.a. OJEDA AVENDANO, Martin; a.k.a. AVENDANO LOPEZ, Martin; a.k.a. AVENDANO, Mariano; a.k.a. NARANJO, Carlos); c/o AUTOS MINI, Ensenada, Baja California, Mexico; c/o AUTODROMO CULIACAN, Culiacan, Sinaloa, Mexico; San Bernardino, Colombia; Iguala, Guerrero, Mexico; Ensenada, Baja California, Mexico; Mexicali, Baja California, Mexico; La Paz, Baja California Sur, Mexico; Avenida Jose Lopez Portillo No. 2031, Culiacan, Sinaloa, Mexico; Calle Antonio Caso No. 500, Colonia Aurora, Culiacan, Sinaloa, Mexico; Calle Amapola No. 12, Colonia 10 de Mayo, Culiacan, Sinaloa, Mexico; Calle Venustiano Carranza No. 34, Colonia Centro, Comondu, Baja California Sur, Mexico; Avenida Delante No. 1806, Colonia Miguel Hidalgo, Ensenada, Baja California, Mexico; DOB 14 Nov 1968; Alt. DOB 14 Nov 1966; POB Culiacan, Sinaloa, Mexico; Citizen Mexico; Nationality Mexico; R.F.C. AEOM-681114-818 (Mexico); (INDIVIDUAL) [SDNTK]

2. AVENDANO OJEDA, Hector Manuel, c/o AUTODROMO CULIACAN, Culiacan, Sinaloa, Mexico; Calle Antonio Caso No. 500, Colonia Aurora, Culiacan, Sinaloa, Mexico; Calle Mision de Sab Gabriel Arcangel No 2335, Interior A, Colonia Real Nueva Galicia, Culiacan, Sinaloa, Mexico; DOB 02 Nov 1971; POB Sinaloa, Mexico; Citizen Mexico; Nationality Mexico; C.U.R.P. AEOH711102HSLVJC08 (Mexico); R.F.C. AEOH-711102-I99 (Mexico); (INDIVIDUAL) [SDNTK]

3. AVENDANO OJEDA, Sergio, Calle Paseo Humaya No. 1466, Colonia Rincon de Guadalupe, Culiacan, Sinaloa, Mexico; Calle Delante No. 1806, Colonia Miguel Hidalgo, Ensenada, Baja California, Mexico; Calle Amapola No. 21, Colonia Diez de Mayo, Culiacan de Rosales, Culiacan, Sinaloa, Mexico; DOB 31 Mar 1980; POB Baja California Sur, Mexico; Citizen Mexico; Nationality Mexico; C.U.R.P. AEOS800331HBSVJR06 (Mexico); R.F.C. AEOS-800331-QH2 (Mexico); (INDIVIDUAL) [SDNTK]

Dated: October 27, 2011.
Adam J. Szubin,
Director, Office of Foreign Assets Control.

[FR Doc. 2011-28390 Filed 11-1-11; 8:45 am]

BILLING CODE 4810-AL-P